FEDERAL COMMUNICATIONS COMMISSION

47 CFR Part 73

[MB Docket No. 14-69; RM-11716; DA 14-1400]

Radio Broadcasting Services; McCall, Idaho

AGENCY: Federal Communications Commission.

ACTION: Final rule.

SUMMARY: The Audio Division, at the request of Ashley A. Bruton, allot Channel 280A at McCall, Idaho, as the community's eighth local transmission service. A staff engineering analysis confirms that Channel 280A can be allotted to McCall, Idaho consistent with the minimum distance separation requirements of the rules with a site restriction 0.4 kilometers (0.2 miles) southwest of the community. The reference coordinates are 44-54-30 NL and 116-06-00 WL. See SUPPLEMENTARY INFORMATION, supra.

DATES: Effective November 10, 2014.

ADDRESSES: Secretary, Federal Communications Commission, 445 12th Street SW., Washington, DC 20554.

FOR FURTHER INFORMATION CONTACT: Rolanda F. Smith, Media Bureau, (202) 418-2700.

SUPPLEMENTARY INFORMATION: This is a synopsis of the Report and Order, MB Docket No. 14-69, adopted September 25, 2014, and released September 26, 2014. The full text of this Commission decision is available for inspection and copying during normal business hours in the FCC's Reference Information Center at Portals II, CY-A257, 445 12th Street SW., Washington, DC 20554. This document may also be purchased from the Commission's duplicating contractors, Best Copy and Printing, Inc., 445 12th Street SW., Room CY-B402, Washington, DC 20554, telephone 1-800-378-3160 or via email www.BCPIWEB.com.

This document does not contain information collection requirements subject to the Paperwork Reduction Act of 1995, Public Law 104-13. The Commission will send a copy of this Report and Order in a report to be sent to Congress and the Government Accountability Office pursuant to the Congressional Review Act, see 5 U.S.C. 801(a)(1)(A).

As discussed in the proposed rule, we are removing from the FM Table of Allotments: (1) Channel 228C3, McCall, Idaho because Station KHNO's channel and community of license were changed from Channel 228C3, McCall, Idaho, to Channel 228C1, Huntington, Oregon, File No. BMPH-20121002ACH; (2) Channel 238C3, McCall, Idaho because the channel is no longer considered a vacant allotment since it is licensed to Station KUJJ, File No. BLH-20131227ADB; and (3) Channel 276C3, McCall, Idaho because Station KVBL changed its community of license from McCall, Idaho, to Union, Idaho, File Nos. BNPH-20110624ADA and BLH-20120627ABD.

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 303, 334, 336 and 339.

§ 73.202 [Amended]

2. Section 73.202(b), the Table of FM Allotments under Idaho, is amended by removing Channel 228C3 at McCall; Channel 238C3 at McCall; and Channel 276C3 at McCall, and by adding Channel 280A at McCall.

[FR Doc. 2014-24496 Filed 10-14-14; 8:45 am]

BILLING CODE 6712-01-P